SOCIAL SECURITY ADMINISTRATION

Agency Information Collection Activities: Proposed Request and Comment Request

The Social Security Administration (SSA) publishes a list of information collection packages that will require clearance by the Office of Management and Budget (OMB) in compliance with Pub. L. 104-13 effective October 1, 1995, the Paperwork Reduction Act of 1995. The information collection packages that may be included in this notice are for new information collections, revisions to OMB-approved information collections and extensions (no change) of OMB-approved information collections.

SSA is soliciting comments on the accuracy of the agency's burden estimate; the need for the information; its practical utility; ways to enhance its quality, utility and clarity; and on ways to minimize burden on respondents, including the use of automated collection techniques or other forms of information technology. Written comments and recommendations regarding the information collection(s) should be submitted to the OMB Desk Officer and the SSA Reports Clearance Officer. The information can be mailed and/or faxed to the individuals at the addresses and fax numbers listed below:

(OMB) Office of Management and Budget, Attn: Desk Officer for SSA, New Executive Office Building, Room 10235, 725 17th St., NW., Washington, DC 20503. Fax: 202-395-6974.

(SSA) Social Security Administration, DCFAM, Attn: Reports Clearance Officer, 1300 Annex Bldg., 6401 Security Blvd., Baltimore, MD 21235. Fax: 410-965-6400.

I. The information collection listed below is pending at SSA and will be submitted to OMB within 60 days from the date of this notice. Therefore, your comments should be submitted to SSA within 60 days from the date of this publication. You can obtain copies of the collection instruments by calling the SSA Reports Clearance Officer at 410-965-0454 or by writing to the address listed above.

Statement of Income and Resources—0960-0124. The information collected on form SSA-8010-BK is used in Supplemental Security Income (SSI) claims and redeterminations to obtain information about the income and resources of: Ineligible spouses, parents/spouses of parents, and children living in the claimant's/beneficiary's household; essential persons; and sponsors of aliens (including spouses of sponsors who live with the sponsor). The information is needed to make initial or continuing eligibility determinations for SSI claimants/beneficiaries who are subject to deeming. If eligible, the information is used to determine the amount of the SSI payment. The respondents are persons whose income and/or resources must be considered in determining the eligibility of SSI claimants or beneficiaries.

Type of Request: Extension of an OMB-approved information collection.

Number of Respondents: 341,000.

Frequency of Response: 1.

Average Burden Per Response: 25 minutes.

Estimated Annual Burden: 142,083 hours.

II. The information collections listed below have been submitted to OMB for clearance. Your comments on the information collections would be most useful if received by OMB and SSA within 30 days from the date of this publication. You can obtain a copy of the OMB clearance package by calling the SSA Reports Clearance Officer at 410-965-0454, or by writing to the address listed above.

1. Internet Social Security Disability Report—Child—20 CFR 404.1512 and 416.912—0960-NEW. SSA is developing an Internet Social Security Disability Report—Child. This Internet application, I3820, will collect information about a child who is applying for disabled child's benefits. It will solicit the details of the child's condition, how the condition affects the child's day-to-day life, and his or her medical treatment sources and/or other medical sources of evidence. Respondents will provide information on the disabled child by completing a series of screens on a personal computer. The information will then be transmitted to SSA electronically. However, until such time as SSA develops an acceptable electronic signature process and implements a Disability Determination Services (DDS) electronic disability process, applicants will also print, sign and mail a text formatted summary of the answers given on I3820. They will also print, sign and mail copies of the medical release form (SSA-827). The information collected on I3820 will be used by the State DDS's to develop medical evidence and to assess the alleged disability. The respondents will be applicants for child's disability benefits who opt to file via the Internet.

Type of Request: New information collection.

Number of Respondents: 52,300.

Frequency of Response: 1.

Average Burden Per Response: 2 hours.

Estimated Annual Burden: 104,600 Hours.

2. Work Activity Report—Employee—0960-0059. Form SSA-821-BK collects information that determines whether individuals have worked in employment after becoming disabled and, if so, whether the work is substantial gainful activity. The data is reviewed and evaluated to determine if the recipient continues to meet the disability requirements of the law. The respondents are title II beneficiaries and title XVI recipients.

Type of Request: Extension of an OMB-approved information collection.

Number of Respondents: 300,000.

Frequency of Response: 1.

Average Burden Per Response: 45 minutes.

Estimated Annual Burden: 225,000 hours.

3. Permanent Residence Under Color of Law—20 CFR, Subpart P, 416.1615 and 416.1618—0960-0451. Under Public Law (Pub. L.) 104-193, effective August 22, 1996, a noncitizen must be a “qualified alien” and meet certain additional requirements in order to be eligible for SSI. This law also established an exception to the new requirements for certain “nonqualified aliens” (i.e., noncitizens who are not qualified aliens) who were receiving SSI on August 22, 1996. The exception allowed nonqualified aliens to remain on the rolls until September 30, 1997, at which time benefits would be suspended if the aliens had not acquired qualified alien status. Pub. L. 105-33 extended the suspension date to September 30, 1998, and Pub. L. 105-306, enacted October 28, 1998, provided that nonqualified aliens who were receiving SSI on August 22, 1996, would remain eligible after September 30, 1998, as long as other requirements were met (e.g., income and resources, etc.). SSI eligibility for this group of aliens, “grandfathered nonqualified aliens,” would continue to be determined based on the rules governing alien eligibility in effect prior to August 22, 1996, i.e., the PRUCOL standard. Under this standard, PRUCOL aliens must present evidence of their status to SSA at the time of application and periodically thereafter. SSA will verify the validity of the evidence of PRUCOL aliens with the Immigration and Naturalization Service (INS). Based on the INS response, SSA will determine whether the individual is eligible for SSI payments. The respondents are alien applicants for and recipients of SSI payments.

Type of Request: Extension of an OMB-approved information collection.

Number of Respondents: 9,000.

Frequency of Response: 1.

Average Burden Per Response: 5 minutes.

Estimated Annual Burden: 750 hours.

4. Instructions for Completion of Federal Assistance Application—0960-0184. The information on form SSA-96 will be used to assist the Commissioner in selecting grant proposals for funding based on their technical merits. The information will also assist in evaluating the soundness of the design of the proposed activities, the possibilities of obtaining productive results, the adequacy of resources to conduct the activities and the relationship to other similar activities that have been or are being conducted. The respondents are State and local governments, State-designated protection and advocacy groups, colleges and universities and profit and nonprofit private organizations.

Type of Request: Extension of an OMB-approved information collection.

Number of Respondents: 200.

Frequency of Response: 8.

Average Burden Per Response: 14 hours.

Estimated Annual Burden: 22,400 hours.

5. Certificate of Election for Reduced Spouse's Benefits—0960-0398. SSA uses the information on the certificate of election, collected on form SSA-25, as the spouse's request for reduced benefits for the month of filing, and for months preceding the month of filing, as designated by the spouse (but not to exceed 12 months). The spouse must file a certificate of election with SSA to elect reduced benefits, if an entitled spouse (age 62-64) no longer has an entitled child in care. The respondents are individuals or households.

Type of Request: Revision of an OMB-approved information collection.

Number of Respondents: 30,000.

Frequency of Response: 1.

Average Burden Per Response: 2 minutes.

Estimated Annual Burden: 1,000 hours.

6. Annual Registration Statement Identifying Separated Participants with Deferred Benefits, Schedule SSA—0960-0606. Schedule SSA is a form filed annually as part of a series of pension plan documents required by section 6057 of the IRS Code. Administrators of pension benefit plans are required to report specific information on future plan benefits for those participants who left plan coverage during the year. SSA maintains the information until a claim for Social Security benefits has been approved. At that time, SSA notifies the beneficiary of his/her potential eligibility for payments from the private pension plan. The respondents are administrators of pension benefit plans or their service providers employed to prepare the schedule SSA on behalf of the pension benefit plan. Below are the estimates of the cost and hour burdens for completing and filing schedule SSA(s). We have used an average to estimate the hour burden. However, the burden may be greater or smaller depending on whether the respondent is a large or small pension benefit plan and how many schedule SSA's are filed in a given year.

Type of request: Extension of an OMB-approved information collection.

Number of Respondents: 88,000.

Frequency of Response: Annually.

Average Burden Per Respondent: 2.5 hours.

Estimated Annual Burden: 220,000 hours.

Estimated Annual Cost Burden for All Respondents: $12,194,400.

7. Internet Report of Continuing Disability Interview—20 CFR 404.1589 and 20 CFR 416.989—0960-NEW.

Background

The Government Paperwork Elimination Act (GPEA) of 1998 directed Federal agencies to develop electronic service delivery instruments as an alternative to traditional paper-based methods. As a result, the Social Security Administration is actively expanding its Internet services to enable citizens to complete the application process as well as to process their requests for post-entitlement transactions online. One of the initiatives in this process is the development of the Internet version of the current paper-based form entitled Report of Continuing Disability Interview, SSA-454-BK, which is used by the agency in the continuing disability review (CDR) process.

The Collection

SSA will use the Internet Report of Continuing Disability Interview (I454) to collect information from individuals receiving disability benefits or their representatives. The information collected will be used to determine whether a person who receives Social Security benefits and/or SSI, based on disability or blindness continues to be disabled. The report will update the record of the disabled individual, providing information on recent medical treatment, vocational and educational experiences, work activity and evaluations of the potential for return to work. On the basis of the responses, additional medical and other evidence is developed to assist SSA in determining whether their disability continues or has ended, and if so when the disability ended. Respondents to I454 are disabled individuals scheduled for CDRs.

Type of request: New information collection.

Number of Respondents: 85,200.

Frequency of Response: 1 per respondent.

Average Burden Per Response: 120 minutes.

Estimated Annual Burden: 170,400 hours.

8. Vocational Rehabilitation “301” Program Development—20 CFR, 404.408, 404.460 & 404.468, Subpart E and 20 CFR, 404.1588, Subpart P-0960-0282. SSA uses form SSA-4290 to collect information to determine whether an individual, whose disability or blindness has ceased, is eligible for continued benefit payments because of participation in an approved program of vocational rehabilitation services, employment services or other support services. The respondents are State vocational rehabilitation agencies, other public or private providers of vocational rehabilitation services and employment services or other support services.

Type of Request: Extension of an OMB-approved information collection.

Number of Respondents: 8,000.

Frequency of Response: 1.

Average Burden Per Response: 15 minutes.

Estimated Annual Burden: 2,000 hours.

9. Medicaid Use Report, 20 CFR 416.268—0960-0267. The information required by this regulation is used by SSA to determine if an individual is entitled to special SSI payments. The respondents are SSI recipients whose payments were stopped based on earnings from work.

Type of Request: Extension of an OMB-approved information collection.

Number of Respondents: 60,000.

Frequency of Response: 1.

Average Burden Per Response: 3 minutes.

Estimated Annual Burden: 3,000 hours.

10. Statement for Determining Continuing Eligibility for Supplemental Security Income Payments—Adult, Form SSA-3988-TEST; Statement for Determining Continuing Eligibility for Supplemental Security Income Payments—Child, Form SSA-3989-TEST—20 CFR Subpart B—416.204—0960-0643.

Background

The Social Security Act mandates periodic redeterminations of the non-medical factors that relate to the SSI recipients' continuing eligibility for SSI payments. Recent SSA studies have indicated that as many as two-thirds of all scheduled redeterminations completed, with the assistance of a SSA employee, did not result in any change in circumstances that affected payment. Therefore, SSA is planning to increase the number of respondents and revise the test methodology of the currently approved test forms. The expansion of the test is needed to further validate whether the test redetermination process actually results in significant operational savings and a decrease in recipient inconvenience, while still timely obtaining the accurate data needed to determine continuing eligibility through the process.

The Collection

A test of forms SSA-3988-TEST and SSA-3989-TEST will be used to determine whether SSI recipients have met and continue to meet all statutory and regulatory non-medical requirements for SSI eligibility, and whether they have been and are still receiving the correct payment amount. The SSA-3988-TEST and SSA-3989-TEST are designed as self-help forms that will be mailed to recipients or to their representative payees for completion and return to SSA. The objectives of the expanded test are to determine the public's ability to understand and accurately complete the test forms. The respondents are recipients of SSI benefits or their representatives. In addition, SSA wants to determine the public's ability to understand and accurately complete a supplemental SSA-3988, which will be directed to a sample of beneficiaries that continue to receive Medicaid, but whose earnings from work are too high to allow payment of SSI benefits.

Type of Request: Revision of an OMB-approved information collection.

| Respondents | Frequency of response | Average burden per response (minutes) | Estimated annual burden (hours)
SSA-3988-TEST | 46,500 | 1 | 20 min | 15,500
SSA-3988-SUP-TEST2 | 2000 | 1 | 21 min | 700
SS-3989-TEST | 8,500 | 1 | 20 min | 2,833
Total burden |  |  |  | 19,033

11. Letter to Employer Requesting Information about Wages Earned by a Beneficiary—20 CFR, Subpart I, 404.801—0960-0034. SSA uses the data collected on form SSA-L725 to establish the exact amount of wages earned by a beneficiary in situations where the information in SSA records is incomplete or has been questioned. The respondents are employers of wage earners whose earnings records are incomplete or have been questioned.

Type of Request: Extension of an OMB-approved information collection.

Number of Respondents: 150,000.

Frequency of Response: 1.

Average Burden Per Response: 40 minutes.

Estimated Annual Burden: 100,000 hours.

12. Reporting Changes that Affect Your Social Security Payment—20 CFR 404, Subpart D and Subpart E—0960-0073. SSA uses the information collected on form SSA-1425 to determine continuing entitlement to title II Social Security benefits and to determine the proper benefit amount. The respondents are Social Security beneficiaries who need to report an event that could affect payments.

Type of Request: Extension of an OMB-approved information collection.

Number of Respondents: 70,000.

Frequency of Response: 1.

Average Burden Per Response: 5 minutes.

Estimated Annual Burden: 5,833 hours.

13. Report of New Information in Disability Cases—20 CFR 404, Subpart D & Subpart P—0960-0071. The information collected on form SSA-612 is used to update the disability records of respondents, based on changes reported. The form is used to gather information on a number of topics that can affect the beneficiary's or the applicant's entitlement to disability benefits. This includes, but is not limited to, information about a return to work, improvement in the medical condition, Workers' Compensation settlements or representative payee issues. The respondents are applicants for and recipients of Title II Disability Benefits.

Type of Request: Extension of an OMB-approved information collection.

Number of Respondents: 27,000.

Frequency of Response: 1.

Average Burden Per Response: 5 minutes.

Estimated Annual Burden: 2,250 hours.

Dated: January 7, 2003.
Elizabeth A. Davidson,
Reports Clearance Officer, Social Security Administration.

[FR Doc. 03-678 Filed 1-13-03; 8:45 am]

BILLING CODE 4191-02-P